DEPARTMENT OF HEALTH AND HUMAN SERVICES

Centers for Disease Control and Prevention

[30DAY-03-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

A Research Program to Develop Optimal NIOSH Alerts for Occupational Safety and Health—New—The mission of the National Institute of Occupational Safety and Health (NIOSH) is to promote safety and health at work for all people through research and prevention. The Alert is one of the primary publications by which NIOSH communicates health and safety recommendations to at-risk workers. The Alert is mailed to workers affected by a particular health or safety hazard and contains information about the nature of the hazard, as well as recommendations for avoiding or controlling it. Despite the important role of the Alert in conveying health and safety information to workers, these publications have not been routinely pretested and evaluated for effectiveness. Therefore, the degree to which the NIOSH Alerts actually produce risk awareness, as well as comprehension, acceptance and use of the recommended health and safety measures, is unknown.

NIOSH proposes to apply recent theoretical advances in communication research to the development of NIOSH Alerts in order to ensure maximal effectiveness in conveying health and safety information to workers. The Elaboration Likelihood Model (ELM) is a communication theory that has received much empirical support. During the past year, an initial test (still in progress) was conducted to compare a standard Alert to an Alert with revised content and format based on the postulates of the ELM. Although this initial study will be informative, much additional research of this nature is necessary to gain an understanding of the communication variables that contribute to high levels of worker awareness, comprehension, acceptance, and use of safety recommendations.

According to the ELM, the greatest impact on long-term health/safety attitudes and behaviors should occur when workers are motivated and able to elaborate upon a message, and when a message contains strong arguments. Therefore, the current investigation aims to (1) examine variables that will increase level of message-related elaboration and (2) create messages that contain strong arguments. The effectiveness of the standard version of the Alert for Preventing Injuries and Deaths from Skid-Steer Loaders will be compared with revised versions of this Alert that incorporate variables known to increase message elaboration and strong arguments selected through pretesting. Specifically, the revised Alerts will use high imagery language to increase message elaboration. After the initial messages are developed, they will be pretested using a sample of 60 farmers and 60 West Virginia University Agricultural Sciences students. Following this pretesting phase, data will be gathered from (1) 300 volunteer farmers who attend an on-site testing and (2) a national random sample of 300 farmers, and (3) 600 West Virginia University Agricultural Science students. In each of these cases, participants will be randomly assigned to receive either a standard or revised version of the Alert, and the effect of the different Alert formats on safety attitudes and behaviors will be assessed.

Data collected in this investigation should further our understanding of the variables that increase effectiveness in communicating health and safety information to workers. By continuing to systematically apply postulates of the ELM to the design of the Alerts, it should become possible to develop a standard communication template to use in future NIOSH publications. The total estimated annualized burden is 660 hours.

Type of respondent | No. of respondents | No. of responses/ respondent | Avg. burden/response (in hrs.)
Farmers (pretesting) | 60 | 1 | .5
Student (pretesting) | 60 | 1 | .5
Farmers | 300 | 1 | .333
Farmers | 300 | 2 | .333
Students | 600 | 1 | .5

Dated: November 8, 2000.
Nancy Cheal,
Acting Associate Director for Policy, Planning and Evaluation, Centers for Disease Control and Prevention (CDC).

[FR Doc. 00-29259 Filed 11-14-00; 8:45 am]

BILLING CODE 4163-18-P